ENVIRONMENTAL PROTECTION AGENCY

[EPA-HQ-OAR-2016-0204; FRL-9953-31-OEI]

Information Collection Request Submitted to OMB for Review and Approval; Comment Request; Information Collection Effort for Oil and Gas Facilities

AGENCY: Environmental Protection Agency (EPA).

ACTION: Notice.

SUMMARY: The Environmental Protection Agency (EPA) has submitted an information collection request (ICR), “Information Collection Effort for Oil and Gas Facilities” (EPA ICR No. 2548.01, OMB Control No. 2060—NEW) to the Office of Management and Budget (OMB) for review and approval in accordance with the Paperwork Reduction Act (44 U.S.C. 3501 et seq.). This is a request for approval of a new collection. Public comments were previously requested via the Federal Register (81 FR 35763) on June 3, 2016, during a 60-day comment period. This notice allows for an additional 30 days for public comments. A complete description of the ICR is provided below, including its estimated burden and cost to the public. An Agency may not conduct or sponsor and a person is not required to respond to a collection of information unless it displays a currently valid OMB control number.

DATES: Additional comments may be submitted on or before October 31, 2016.

ADDRESSES: Submit your comments, referencing Docket ID Number EPA-HQ-OAR-2016-0204, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brenda Shine, Sector Policies and Programs Division (E143-01), Office of Air Quality Planning and Standards, Environmental Protection Agency, Research Triangle Park, NC 27711; telephone number: (919) 541-3608; email address: shine.brenda@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Collectively, oil and gas facilities are the largest industrial emitters of methane in the U.S. While a great deal of information is available on the oil and gas industry and has to date provided a strong technical foundation to support the Agency's recent actions, the EPA is now seeking more specific information that would be of critical use in addressing existing source emissions pursuant to Clean Air Act (CAA) section 111(d). Taking into account the large number of sources that a national regulation development effort would need to consider, and the potential for taking a different approach to addressing co-located existing sources than was taken with new and modified sources, the EPA requires information that will enable the development of effective standards for this entire industry under CAA section 111(d).

There will be two parts to the information collection. Part 1, referred to as the operator survey, is specifically designed to obtain information from onshore oil and gas production facilities to better understand the number and types of equipment at production facilities. Part 2, referred to as the detailed facility survey, will be sent to selected oil and gas facilities across the different industry segments. Part 2 will collect detailed, unit-specific information on emission sources at the facility and any emission control devices or management practices used to reduce emissions. Due to the large number of potentially affected facilities, Part 2 uses a statistical sampling method considering each industry segment (and groupings of facilities in the production segment) to be separate sampling populations. Thus, a statistically significant number of facilities within each industry segment (or “population”) will be required to complete the Part 2 detailed facility survey.

The data collected throughout this process will be used to determine the number of potentially affected emission sources and the types and prevalence of emission controls or emission reduction measures used for these sources at existing oil and gas facilities, among other purposes. This information may also be used to fill data gaps, to evaluate the emission and cost impacts of various regulatory options, and to establish appropriate standards of performance for oil and gas facilities.

Respondents will be required to respond under the authority of section 114 of the CAA. The EPA anticipates issuing the CAA section 114 letters by late October, 2016. These letters would require the owner/operator of an oil and gas facility to complete and submit the Part 1 survey within 30 days of receipt of the survey, and would require facilities to complete and submit the Part 2 survey with 120 days of receipt.

All information submitted to the Agency in response to the surveys will be managed in accordance with applicable laws and the EPA's regulations governing treatment of CBI at 40 CFR part 2, subpart B. Any information determined to constitute a trade secret will be protected under 18 U.S.C. 1905.

Form numbers: None.

Respondents/affected entities: Respondents affected by this action are owners/operators of oil and natural gas facilities.

Respondent's obligation to respond: Mandatory. (Pursuant to section 114 of the CAA.)

Estimated number of respondents: The estimated number of respondents for Part 1 is 15,000 operators representing approximately 698,800 facilities (total). The estimated number of respondents for Part 2 is 3,818.

Frequency of response: This is a one-time survey.

Total estimated burden: 245,481 hours. Burden is defined at 5 CFR 1320.03(b).

Total estimated cost: $37,692,625, which includes $6,987,000 in operating and maintenance (O&M) costs.

Changes in estimates: This is a new ICR.

Courtney Kerwin,
Director, Regulatory Support Division.

[FR Doc. 2016-23463 Filed 9-28-16; 8:45 am]

BILLING CODE 6560-50-P